ENVIRONMENTAL PROTECTION AGENCY

[FRL-9966-90-ORD]

Ambient Air Monitoring Reference and Equivalent Methods: Designation of Three New Reference Methods

AGENCY: Environmental Protection Agency (EPA).

ACTION: Notice.

SUMMARY: Notice is hereby given that the Environmental Protection Agency (EPA) has designated three new reference methods for measuring concentrations of PM2.5, PM10, and PM10-2.5 in the ambient air.

FOR FURTHER INFORMATION CONTACT: Robert Vanderpool, Exposure Methods and Measurement Division (MD-D205-03), National Exposure Research Laboratory, U.S. EPA, Research Triangle Park, North Carolina 27711. Phone: 919-541-7877. Email: Vanderpool.Robert@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference methods or equivalent methods (as applicable), thereby permitting their use under 40 CFR part 58 by States and other agencies for determining compliance with the NAAQSs.

The EPA hereby announces the designation of three new reference methods for measuring concentrations of PM2.5, PM10, and PM10-2.5 in the ambient air. These designations are made under the provisions of 40 CFR part 53, as amended on August 31, 2011 (76 FR 54326- 54341).

The new reference method for PM2.5 is a manual monitoring method based on a specific PM2.5 sampler and is identified as follows:

RFPS-0717-245, “Met One Instruments, Inc. E-SEQ-FRM,” sequential sampler configured for multi-event filter sampling of ambient particulate matter using the U.S. EPA PM10 inlet specified in 40 CFR part 50, Appendix L, Figs. L-2 thru L-19, equipped with either a Mesa Laboratories VSCC™ cyclone or WINS PM2.5 fractionator, with a flow rate of 16.67 L/min, using 47 mm PTFE membrane filter media, and operating with firmware version R1.1.0 and later, and operated in accordance with the Met One E-SEQ-FRM PM2.5 operating manual. This designation applies to PM2.5 measurements only.

The new reference method for PM10 is a manual monitoring method based on a specific PM10 sampler and is identified as follows:

RFPS-0717-246, “Met One Instruments, Inc. E-SEQ-FRM,” sequential sampler configured for multi-event filter sampling of ambient particulate matter using the U.S. EPA PM10 inlet specified in 40 CFR part 50, Appendix L, Figs. L-2 thru L-19, equipped with either a Mesa Laboratories VSCC™ cyclone or WINS PM2.5 fractionator, with a flow rate of 16.67 L/min, using 47 mm PTFE membrane filter media, and operating with firmware version R1.1.0 and later, and operated in accordance with the Met One E-SEQ-FRM PM10 operating manual. This designation applies to PM10 measurements only.

The new PM10-2.5 reference method utilizes a pair of filter samplers that have been designated individually as reference methods, one for PM2.5 and the other one for PM10, and have been shown to meet the requirements specified in appendix O of 40 CFR part 50. The PM2.5 and PM10 samplers are designated as reference methods RFPS-0717-245 and RFPS-0717-246, respectively. The newly designated PM10-2.5 sampler is identified as follows:

RFPS-0717-247, “Met One Instruments, Inc. E-SEQ-FRM PM10 and E-SEQ-FRM PM2.5 Sampler Pair” for the determination of coarse particulate matter as PM10-2.5, consisting of a pair of Met One Instruments, Inc. E-SEQ-FRM samplers, with one being the E-SEQ-FRM PM2.5 sampler (RFPS-0717-245) and the other being the E-SEQ-FRM PM10 sampler (RFPS-0717-246). The units are to be collocated to within 1-4 meters of one another and sample concurrently. Both units are operated in accordance with the associated E-SEQ-FRM instruction manual. This designation applies to PM10-2.5 measurements only.

The application for reference method determination for the PM2.5 method was received by the Office of Research and Development on May 17, 2017, the PM10 method application was received on June 5, 2017, and the PM10-2.5 method was received on July 25, 2017. These monitors are commercially available from the applicant, Met One Instruments, Inc., 1600 Washington Blvd., Grants Pass, OR 97526.

Test monitors representative of these methods have been tested in accordance with the applicable test procedures specified in 40 CFR part 53, as amended on August 31, 2011. After reviewing the results of those tests and other information submitted in the applications, EPA has determined, in accordance with part 53, that these methods should be designated as reference methods. The information in the applications will be kept on file, either at EPA's National Exposure Research Laboratory, Research Triangle Park, North Carolina 27711 or in an approved archive storage facility, and will be available for inspection (with advance notice) to the extent consistent with 40 CFR part 2 (EPA's regulations implementing the Freedom of Information Act).

As designated reference methods, these methods are acceptable for use by states and other air monitoring agencies under the requirements of 40 CFR part 58, Ambient Air Quality Surveillance. For such purposes, the methods must be used in strict accordance with the operation or instruction manuals associated with the methods and subject to any specifications and limitations (e.g., configuration or operational settings) specified in the applicable designated descriptions (see the identification of the methods above).

Use of the methods also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008. Provisions concerning modification of such methods by users are specified under Section 2.8 (Modifications of Methods by Users) of Appendix C to 40 CFR part 58.

Consistent or repeated noncompliance should be reported to: Director, Exposure Methods and Measurement Division (MD-E205-01), National Exposure Research Laboratory, U.S. Environmental Protection Agency, Research Triangle Park, North Carolina 27711.

Designation of these new reference methods is intended to assist the States in establishing and operating their air quality surveillance systems under 40 CFR part 58. Questions concerning the commercial availability or technical aspects of the methods should be directed to the applicant.

Dated: August 16, 2017.
Timothy H. Watkins,
Deputy Director, National Exposure Research Laboratory.

[FR Doc. 2017-20447 Filed 9-22-17; 8:45 am]

BILLING CODE 6560-50-P